DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed reinstatement of the “Well-being Supplement to the American Time Use Survey.” A copy of the proposed information collection request can be obtained by contacting the individual listed below in the ADDRESSES section of this notice.

DATES: Written comments must be submitted to the office listed in the ADDRESSES section of this notice on or before July 6, 2020.

ADDRESSES: Send comments to Erin Good, BLS Clearance Officer, Division of Management Systems, Bureau of Labor Statistics, Room 4080, 2 Massachusetts Avenue NE, Washington, DC 20212.

FOR FURTHER INFORMATION CONTACT: Erin Good, BLS Clearance Officer, at 202-691-7763 (this is not a toll free number). (See ADDRESSES section.)

SUPPLEMENTARY INFORMATION:

I. Background

The American Time Use Survey (ATUS) is the Nation's first federally administered, continuous survey on time use in the United States. It measures, for example, time spent with children, working, sleeping, or doing leisure activities. In the United States, several existing Federal surveys collect income and wage data for individuals and families, and analysts often use such measures of material prosperity as proxies for quality of life. Time-use data substantially augment these quality-of-life measures. The data also can be used in conjunction with wage data to evaluate the contribution of non-market work to national economies. This enables comparisons of production between nations that have different mixes of market and non-market activities.

The ATUS is used to develop nationally representative estimates of how people spend their time. This is done by collecting a time diary about the activities survey respondents did over a 24-hour period “yesterday,” from 4 a.m. on the day before the interview until 4 a.m. on the day of the interview. In the one-time interview, respondents also report who was with them during the activities, where they were, how long each activity lasted, and if they were paid. All of this information has numerous practical applications for sociologists, economists, educators, government policymakers, businesspersons, health researchers, and others.

The Well-being Module, a supplement to the ATUS, provides an additional dimension to data on time use by providing information about how Americans experience their time. Specifically, the Module collects information about how happy, tired, sad, and stressed individuals were yesterday, and the degree to which they felt pain, for three activities randomly selected from the time diary. The Well-being Module also collects data on whether people were interacting with anyone while doing the selected activities and how meaningful the activities were to them. Some general health questions, a question about overall life satisfaction, and a question about respondents' overall affective experience yesterday also are asked.

Information collected in the Well-being Module will be published as a public data set to facilitate research on numerous topics, such as: How people experience time spent in different activities, times of social interaction, and pain; the relationship between health and time use; and the relationship between evaluative and experienced well-being. The Well-being Module supports the mission of the Bureau of Labor Statistics to provide relevant information on economic and social issues by providing a richer understanding of Americans' use of time and workers' affective experiences. For example, the data facilitate research on how workers experience pain on and off the job and whether this experience varies by occupation.

II. Current Action

Office of Management and Budget clearance is being sought to reinstate the collection of the ATUS Well-being Module, a supplement to the ATUS. The proposed reinstatement of the Well-being Module will collect information about how people experience their time, specifically how happy, tired, sad, stressed, and in pain they felt yesterday. Respondents will be asked these questions about three randomly selected activities from the activities reported in the ATUS time diary. The time diary refers to the core part of the ATUS, in which respondents report the activities they did from 4 a.m. on the day before the interview to 4 a.m. on the day of the interview. A few activities, such as sleeping and private activities, will never be selected. The module also will collect data on whether people were interacting with anyone while doing the selected activities and how meaningful the activities were to them. Some general health questions, a question about overall life satisfaction, and a question about respondents' overall emotional experience yesterday also will be asked.

The data from the proposed Well-being Module will support the BLS mission of providing relevant information on economic and social issues. The data will provide a richer description of work; specifically, it will measure how workers feel (tired, stressed, in pain) during work episodes compared to non-work episodes, and how often workers interact on the job. It can also measure whether the amount of pain workers experience varies by occupation and disability status.

The collection of Well-being data in late 2020 and 2021 is of particular interest in light of current world events. On March 11, 2020, the World Health Organization declared the COVID-19 outbreak a pandemic. Researchers are interested in measuring the impact of the COVID-19 pandemic on workers' well-being.

The proposed Well-being Module is identical to a module that was collected in 2012 and 2013. The proposed 2021 Well-being Module will be included in the ATUS from October 2020 through December 2021.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: Well-being Supplement to the American Time Use Survey.

OMB Number: 1220-0185.

Type of Review: Reinstatement without change of a previously approved collection.

Agency: Bureau of Labor Statistics.

Affected Public: Individuals or Households.

Total Respondents: 12,000.

Frequency: One time.

Total Responses: 12,000.

Average Time per Response: 5.6 minutes.

Estimated Total Burden Hours: 1,120 hours.

Comments submitted in response to this notice will be summarized and/or included in the request for Office of Management and Budget approval of the information collection request; they also will become a matter of public record.

Signed at Washington, DC, on April 29, 2020.
Mark Staniorski,
Chief, Division of Management Systems.

[FR Doc. 2020-09532 Filed 5-4-20; 8:45 am]

BILLING CODE 4510-24-P